FEDERAL COMMUNICATIONS COMMISSION

47 CFR Part 73

[DA No. 02-2721, MB Docket No. 02-335, RM-10545]

Radio Broadcasting Services; Coopersville, Hart & Pentwater, MI

AGENCY: Federal Communications Commission.

ACTION: Proposed rule.

SUMMARY: This document requests comments on a petition filed by Waters Broadcasting Corporation and Synergy Media, Inc. requesting the substitution of Channel 287B for Channel 287C2 at Hart, Michigan, and reallotment of Channel 287B from Hart, Michigan, to Coopersville, Michigan, and modification of the license for Station WCXT to specify operation on Channel 287B at Coopersville. The coordinates for Channel 287B at Coopersville are 43-20-36 and 85-52-16. To accommodate the proposal for Coopersville, we shall also propose the reallotment of Channel 231C3 from Pentwater to Hart, Michigan, and modification of the license for Station WWKR accordingly. The coordinates for Channel 231C3 at Hart are 43-51-33 and 86-18-27. In accordance with Section 1.420(i) of the Commission's Rules, we shall not accept competing expressions of interest in the use of Channel 287B at Coopersville or Channel 231C3 at Hart. Canadian concurrence will be requested for both allotments.

DATES: Comments must be filed on or before December 30, 2002, and reply comments on or before January 15, 2003.

ADDRESSES: Federal Communications Commission, 445 Twelfth Street, SW., Washington, DC 20554. In addition to filing comments with the FCC, interested parties should serve the petitioner's counsel, as follows: Matthew H. McCormick, Reddy, Begley & McCormick, LLP, 2175 K Street, NW., Suite 350, Washington, DC 20037-1845 and Robert L. Olender, Koerner & Olender, P.C., 5809 Nicholson Lane, Suite 124, North Bethesda, Maryland 20852-5706.

FOR FURTHER INFORMATION CONTACT: Kathleen Scheuerle, Media Bureau, (202) 418-2180.

SUPPLEMENTARY INFORMATION: This is a summary of the Commission's Notice of Proposed Rule Making, MB Docket No. 02-335, adopted October 23, 2002, and released November 8, 2002. The full text of this Commission decision is available for inspection and copying during normal business hours in the Commission's Reference Center, 445 Twelfth Street, SW, Washington, DC 20554. The complete text of this decision may also be purchased from the Commission's duplicating contractor, Qualex International, Portals II, 445 12th Street, SW, Room CY-B402, Washington, DC, 20554, telephone 202-863-2893, facsimile 202-863-2898, or via e-mail qualexint@aol.com.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1.The authority citation for part 73 continues to read as follows:

Authority: 47 U.S.C §§ 154, 303, 334 and 336.

§ 73.202 [Amended]

2. Section 73.202(b), the Table of FM Allotments under Michigan, is amended by removing Channel 287C2 at Hart, by adding Coopersville, Channel 287B, and by removing Channel 231C3 at Pentwater and adding Channel 231C3 at Hart.

Federal Communications Commission.
John A. Karousos,
Assistant Chief, Audio Division, Media Bureau.

[FR Doc. 02-30508 Filed 12-2-02; 8:45 am]

BILLING CODE 6712-01-P